ELECTION ASSISTANCE COMMISSION

Proposed Guidance on Voluntary Voting System Guidelines

AGENCY: United States Election Assistance Commission.

ACTION: Notice of TGDC draft recommendations of Voluntary Voting System Guidelines and request for comments.

SUMMARY: The Help America Vote Act of 2002 (HAVA) (Pub. L. 107-252, October 29, 2002) established the U.S. Election Assistance Commission (EAC). Section 202 of HAVA directs the EAC to adopt voluntary voting system guidelines (VVSG) and to provide for the testing, certification, decertification, and recertification of voting system hardware and software. The VVSG provides specifications and standards against which voting systems can be tested to determine if they provide basic functionality, accessibility, and security capabilities. Section 221 of HAVA mandates the creation of the Technical Guidelines Development Committee (TGDC) to assist the EAC in developing its voluntary voting system guidance. The TGDC has recommended standards to the EAC. These recommended standards were submitted by the TGDC to the EAC's Executive Director pursuant to section 221 of HAVA.

As part of its development process the EAC is seeking public comment on the TGDC's recommended standards. The EAC encourages the public to offer specific and detailed comments on all aspects and sections of the requirements. The EAC is particularly interested in receiving comments on three distinct issues:

(1) The concept of Software Independence and the corresponding requirements for Independent Voter Verifiable Records and the Innovation class;

(2) Open Ended Vulnerability Testing; and

(3) the usability and accessibility benchmarks developed for this iteration of the VVSG.

All three of these concepts are new to the VVSG and could have a substantial impact on the cost of implementation and on the security and accessibility of voting systems.

DATES: Comments must be received on or before 4 p.m. on March 5, 2008.

Submission of Comments: The EAC provides two means of submission of comments: (1) On-line electronic comment form at http://www.eac.gov, and (2) by mail to Voluntary Voting System Guidelines Comments, U.S. Election Assistance Commission, 1225 New York Ave., NW., Suite 1100, Washington, DC 20005. Commenters are encouraged to submit comments electronically to ensure timely receipt and consideration.

In order to allow efficient and effective review of comments the EAC requests that:

(1) Comments should refer to the specific section that is the subject of the comment.

(2) Comments regarding a term that is included or that should be added to the “Appendix A: Definitions of Words with Special Meanings” should reference the term, part, and section number to which the comment refers.

(3) General comments regarding the entire document or comments that refer to more than one section should be made as specifically as possible so that EAC can clearly understand to which portion(s) of the documents the comment refers.

(4) To the extent that a comment suggests a change in the wording of a requirement or section of the guidelines, please provide proposed language for the suggested change.

To Obtain a copy of the TGDC Draft Recommendations of the Voluntary Voting System Guidelines: Due to the fact that the Voluntary Voting System Guidelines are more than 550 pages in length, the entire draft document has not been attached to this notice. A complete copy of the TGDC draft recommendations of the Voluntary Voting System Guidelines is available from the EAC in electronic format. An electronic copy can be downloaded in PDF format or read in HTML version on EAC's Web site, http;://www.eac.gov. In order to obtain a paper copy of the TGDC draft recommendations please mail a written request to Voluntary Voting System Guidelines Comments, U.S. Election Assistance Commission, 1225 New York Ave., NW., Suite 1100, Washington, DC 20005.

FOR FURTHER INFORMATION CONTACT: Matthew Masterson, Phone (202) 566-3100, e-mail votingsystemstandards@eac.gov.

SUPPLEMENTARY INFORMATION: Prior to the passage of HAVA, the Federal Election Commission (FEC) published the 2002 Voting System Standards (VSS). HAVA mandated that the EAC update the VSS. In December of 2005 the EAC adopted the 2005 VVSG. The 2005 VVSG used many of the same requirements as the 2002 VSS but it expanded the security, accessibility, and usability sections. On March 29, 2006, the TGDC held its first meeting to discuss the next iteration of the VVSG. Since that time, the TGDC has held numerous public meetings and subcommittee conference calls to create a set of draft guidelines for recommendation to the EAC (all TGDC meeting materials can be found at http://www.vote.nist.gov). On August 17, 2007, the TGDC voted to complete final edits of their recommendations and submit them to the Executive Director of the EAC. The EAC received the draft guidelines from the TGDC on August 31, 2007.

The recommended guidelines currently consist of an Introduction and three distinct Parts. The Introduction is an overview of the requirements and explanations of new or expanded materials. Part 1 contains the equipment requirements including upgraded requirements for security and new usability benchmarks for voting machines. Part 2 details the documentation requirements for both the manufacturers and the Voting System Test Laboratories (VSTL). Part 2 also includes a section on the submission of the Technical Data Package and requirements for full system user documentation. Part 3 contains the testing requirements for voting machines. This includes new material on open ended vulnerability testing and new benchmarks for performance testing. In addition to the introduction and the three parts, the guidelines contain (1) an appendix for “definitions of words with special meaning” specific to the requirements and (2) an appendix detailing all references and end notes.

Now that the TGDC has submitted its draft recommendations to the EAC for publication in the Federal Register, the EAC will begin its review and development process. This is a four phase plan:

Phase I—EAC will submit the TGDC's draft document to the Federal Register and provide a public comment feature on www.eac.gov. The public comment period will last for 120 days and all comments will be made available for public review. This public comment period is not required by law; however, the EAC thought it was extremely important to receive public input before proceeding with the process. During this public comment period the EAC will conduct public hearings regarding the TGDC's draft recommendations. The TGDC draft is currently available at http://www.eac.gov.

Phase II—EAC will collect and review all public comments submitted on the TGDC draft. After consideration of all public comments, the EAC will then perform an internal review.

Phase III—Based upon public comment and internal review of the TGDC document, the EAC will develop and publish its draft version in the Federal Register. The public will have another 120 days to comment on the EAC draft version. EAC will conduct public hearings to discuss its draft version.

Phase IV—EAC will collect and review all comments submitted and make final modifications. The final version of the VVSG will be adopted by vote of the Commission at a public meeting and then published in the Federal Register.

Thomas R. Wilkey,
Executive Director, U.S. Election Assistance Commission.

[FR Doc. 07-5526 Filed 11-5-07; 8:45 am]

BILLING CODE 6820-KF-M